FEDERAL HOUSING FINANCE BOARD

[No. 2001-N-6]

Federal Home Loan Bank Members Selected for Community Support Review

AGENCY: Federal Housing Finance Board.

ACTION: Notice.

SUMMARY: The Federal Housing Finance Board (Finance Board) is announcing the Federal Home Loan Bank (Bank) members it has selected for the 2000-01 fifth quarter review cycle under the Finance Board's community support requirement regulation. This notice also prescribes the deadline by which Bank members selected for review must submit Community Support Statements to the Finance Board.

DATES: Bank members selected for the 2000-01 fifth quarter review cycle under the Finance Board's community support requirement regulation must submit completed Community Support Statements to the Finance Board on or before May 25, 2001.

ADDRESSES: Bank members selected for the 2000-01 fifth quarter review cycle under the Finance Board's community support requirement regulation must submit completed Community Support Statements to the Finance Board either by regular mail at the Office of Policy, Research and Analysis, Program Assistance Division, Federal Housing Finance Board, 1777 F Street, NW., Washington, DC 20006, or by electronic mail at fitzgeralde@fhfb.gov.

FOR FURTHER INFORMATION CONTACT: Emma J. Fitzgerald, Program Analyst, Office of Policy, Research and Analysis, Program Assistance Division, by telephone at 202/408-2874, by electronic mail at fitzgeralde@fhfb.gov, or by regular mail at the Federal Housing Finance Board, 1777 F Street, NW., Washington, DC 20006. A telecommunications device for deaf persons (TDD) is available at 202/408-2579.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to the requirements of section 10(g) of the Bank Act, the Finance Board has promulgated a community support requirement regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the May 25, 2001 deadline prescribed in this notice. 12 CFR 944.2(b)(1)(ii) and (c). On or before April 30, 2001, each Bank will notify the members in its district that have been selected for the 2000-01 fifth quarter community support review cycle that they must complete and submit to the Finance Board by the deadline a Community Support Statement. 12 CFR 944.2(b)(2)(i). The member's Bank will provide a blank Community Support Statement Form, which also is available on the Finance Board's web site: www.fhfb.gov. Upon request, the member's Bank also will provide assistance in completing the Community Support Statement.

The Finance Board has selected the following members for the 2000-01 fifth quarter community support review cycle:

Federal Home Loan Bank of Boston—District 1
People's Bank | Bridgeport | Connecticut
Farmington Savings Bank | Farmington | Connecticut
Savings Bank of Manchester | Manchester | Connecticut
Liberty Bank | Middletown | Connecticut
Naugatuck Savings Bank | Naugatuck | Connecticut
Citizens National Bank | Putnam | Connecticut
Simsbury Bank and Trust Company | Simsbury | Connecticut
Windsor Federal Savings & Loan Association | Windsor | Connecticut
Windsor Locks Savings & Loan Association | Windsor Locks | Connecticut
Ocean Communities Federal Credit Union | Biddeford | Maine
St. Joseph's Federal Credit Union | Biddeford | Maine
First National Bank of Damariscotta | Damariscotta | Maine
Gardiner Savings Institution, FSB | Gardiner | Maine
United Kingfield Bank | Kingfield | Maine
Machias Savings Bank | Machias | Maine
Katahdin Federal Credit Union | Millinocket | Maine
St. Croix Federal Credit Union | Woodland | Maine
U-Mass Five College Federal Credit Union | Amherst | Massachusetts
Tremont Credit Union | Boston | Massachusetts
University Credit Union | Boston | Massachusetts
Brockton Credit Union | Brockton | Massachusetts
Broadway National Bank | Chelsea | Massachusetts
Dedham Cooperative Bank | Dedham | Massachusetts
Everett Credit Union | Everett | Massachusetts
Worker's Credit Union | Fitchburgh | Massachusetts
Framingham Co-operative Bank | Framingham | Massachusetts
Benjamin Franklin Savings Bank | Franklin | Massachusetts
Dean Cooperative Bank | Franklin | Massachusetts
Greenfield Savings Bank | Greenfield | Massachusetts
Hanscom Federal Credit Union | Hanscom AFB | Massachusetts
Economy Co-operative Bank | Merrimac | Massachusetts
Mayflower Cooperative Bank | Middleborough | Massachusetts
Millbury Federal Credit Union | Millbury | Massachusetts
Compass Bank | New Bedford | Massachusetts
First Citizens' Federal Credit Union | New Bedford | Massachusetts
North Shore Bank | Peabody | Massachusetts
Berkshire Bank | Pittsfield | Massachusetts
Pittsfield Cooperative Bank | Pittsfield | Massachusetts
Sharon Co-operative Bank | Sharon | Massachusetts
Slade's Ferry Trust Company | Somerset | Massachusetts
Central Co-operative Bank | Somerville | Massachusetts
Savers Co-operative Bank | Southbridge | Massachusetts
Stoneham Co-operative Bank | Stoneham | Massachusetts
Martha's Vineyard Co-operative Bank | Vineyard Haven | Massachusetts
Ware Co-operative Bank | Ware | Massachusetts
United Co-operative Bank | West Springfield | Massachusetts
Westfield Bank | Westfield | Massachusetts
Winthrop Federal Credit Union | Winthrop | Massachusetts
Flagship Bank and Trust Company | Worcester | Massachusetts
Connecticut River Bank, N.A. | Charleston | New Hampshire
Claremont Savings Bank | Claremont | New Hampshire
Triangle Credit Union | Nashua | New Hampshire
Lake Sunapee Bank, F.S.B. | Newport | New Hampshire
Sugar River Savings Bank | Newport | New Hampshire
Piscataqua Savings Bank | Portsmouth | New Hampshire
Service Credit Union | Portsmouth | New Hampshire
Washington Trust Company | Westerly | Rhode Island
The Bank of Bennington | Bennington | Vermont
Factory Point National Bank | Manchester Center | Vermont
Heritage Family Credit Union | Rutland | Vermont
Passumpsic Savings Bank | St. Johnsbury | Vermont
Federal Home Loan Bank of New York—District 2
Ocwen Federal Bank FSB | West Palm Beach | Florida
American Savings Bank of New Jersey | Bloomfield | New Jersey
Clifton Savings Bank, S.L.A. | Clifton | New Jersey
Sussex County State Bank | Franklin | New Jersey
First Hope Bank | Hope | New Jersey
Magyar Savings Bank | New Brunswick | New Jersey
Lusitania Savings Bank, fsb | Newark | New Jersey
Franklin Savings Bank, S.L.A. | Pilesgrove | New Jersey
Roebling Savings Bank | Roebling | New Jersey
Pulaski Savings Bank | Springfield | New Jersey
South Jersey Savings and Loan Association | Turnersville | New Jersey
Monroe Savings Bank, SLA | Williamstown | New Jersey
Cayuga Bank | Auburn | New York
BSB Bank & Trust Company | Binghampton | New York
Ponce de Leon Federal Bank | Bronx | New York
Atlantic Liberty Savings, F.A. | Brooklyn | New York
Community Capital Bank | Brooklyn | New York
Bank of Castile | Castile | New York
Cohoes Savings Bank | Cohoes | New York
Fulton Savings Bank | Fulton | New York
Astoria Federal Savings and Loan | Lake Success | New York
First Federal Savings of Middletown | Middletown | New York
Amalgamated Bank of New York | New York | New York
United Orient Bank | New York | New York
Pittsford Federal Credit Union | Pittsford | New York
Northfield Savings Bank | Staten Island | New York
Empire Federal Credit Union | Syracuse | New York
Bank & Trust of Puerto Rico | Hato Rey | Puerto Rico
Federal Home Loan Bank of Pittsburgh—District 3
Travelers Bank | Newark | Delaware
AIG Federal Savings Bank | Wilmington | Delaware
Wilmington Savings Fund Society | Wilmington | Delaware
C&G Savings Bank | Altoona | Pennsylvania
Ambler Savings & Loan Association | Ambler | Pennsylvania
First Star Savings Bank | Bethlehem | Pennsylvania
First FS&LA of Bucks County | Bristol | Pennsylvania
Alliance Bank | Broomall | Pennsylvania
Sharon Savings Bank | Darby | Pennsylvania
ESB Bank, F.S.B. | Ellwood City | Pennsylvania
County Savings Association | Essington | Pennsylvania
Bank of Hanover and Trust Company | Hanover | Pennsylvania
Hatboro Federal Savings | Hatboro | Pennsylvania
First Federal Bank | Hazleton | Pennsylvania
William Penn Savings and Loan Association | Levittown | Pennsylvania
Willow Grove Bank | Maple Glen | Pennsylvania
First Keystone Federal Savings Bank | Media | Pennsylvania
Morton Savings and Loan Association | Morton | Pennsylvania
Nesquehoning Savings Bank | Nesquehoning | Pennsylvania
Third Federal Savings Bank | Newtown | Pennsylvania
Malvern Federal Savings Bank | Paoli | Pennsylvania
First Savings Bank of Perkasie | Perkasie | Pennsylvania
Asian Bank | Philadelphia | Pennsylvania
Crusader Savings Bank, fsb | Philadelphia | Pennsylvania
Fox Chase Federal Savings Bank | Philadelphia | Pennsylvania
Second FS&LA of Philadelphia | Philadelphia | Pennsylvania
Washington Savings Association | Philadelphia | Pennsylvania
Bell FS&LA of Bellevue | Pittsburgh | Pennsylvania
Great American FS&LA | Pittsburgh | Pennsylvania
National City Bank of Pennsylvania | Pittsburgh | Pennsylvania
Progressive Home FS&LA | Pittsburgh | Pennsylvania
Patriot Bank | Pottstown | Pennsylvania
Quakertown National Bank | Quakertown | Pennsylvania
Mercer County State Bank | Sandy Lake | Pennsylvania
North Penn Savings & Loan Association | Scranton | Pennsylvania
Penn Security Bank & Trust Company | Scranton | Pennsylvania
Pennview Savings Bank | Souderton | Pennsylvania
Slovenian S&LA of Canonsburg | Strabane | Pennsylvania
First National Bank of West Chester | West Chester | Pennsylvania
First Heritage Bank | Wilkes-Barre | Pennsylvania
Williamsport National Bank | Williamsport | Pennsylvania
Pioneer Community Bank, Inc. | Laeger | West Virginia
Bank of Mount Hope, Inc. | Mount Hope | West Virginia
Community Bank of Parkersburg | Parkersburg | West Virginia
First National Bank | Spencer | West Virginia
Pleasants County Bank | St. Marys | West Virginia
Poca Valley Bank | Walton | West Virginia
Federal Home Loan Bank of Atlanta—District 4
Covington County Bank | Andalusia | Alabama
United Bank | Atmore | Alabama
AmSouth Bank | Birmingham | Alabama
Community Bank | Blountsville | Alabama
Peoples Community Bank | Columbia | Alabama
Peoples Bank of North Alabama | Cullman | Alabama
First American Bank | Decatur | Alabama
The Citizens Bank | Enterprise | Alabama
Eufala Bank & Trust Company | Eufala | Alabama
EvaBank | Eva | Alabama
First Gulf Bank | Gulf Shores | Alabama
Merchants Bank | Jackson | Alabama
Farmers and Merchants Bank | Lafayette | Alabama
Southwest Bank of Alabama, Inc. | McIntosh | Alabama
South Alabama Bank | Mobile | Alabama
Eagle Bank of Alabama | Opelika | Alabama
Community Spirit Bank | Red Bay | Alabama
Valley State Bank | Russellville | Alabama
The Peoples Bank & Trust Company | Selma | Alabama
Sweet Water State Bank | Sweet Water | Alabama
First Federal of the South | Sylacauga | Alabama
First Citizens Bank, N.A. | Talladega | Alabama
The First National Bank of Talladega | Talladega | Alabama
First United Security Bank | Thomasville | Alabama
Century National Bank | Washington | D. C.
City First Bank of D.C., N.A. | Washington | D. C.
Citrus and Chemical Bank | Bartow | Florida
Mackinac Savings Bank | Boynton Beach | Florida
First Bank of Clewiston | Clewiston | Florida
First National Bank of Crestview | Crestview | Florida
Regent Bank | Davie | Florida
Dunnellon State Bank | Dunnellon | Florida
Gateway American Bank of Florida | Ft. Lauderdale | Florida
Landmark Bank, N.A. | Ft. Lauderdale | Florida
Old Florida Bank | Fort Myers | Florida
Desjardins Federal Savings Bank | Hallandale | Florida
Combined Proforma—Florida Community Bank | Immolakee | Florida
The Bank of Inverness | Inverness | Florida
Educational Community Credit Union | Jacksonville | Florida
First Guaranty Bank & Trust Company | Jacksonville | Florida
Monticello Bank | Jacksonville Beach | Florida
Publix Employees Federal Credit Union | Lakeland | Florida
Sterling Bank | Lantana | Florida
First Federal Savings Bank of Florida | Live Oak | Florida
Commercial Bank of Florida | Miami | Florida
Eastern National Bank | Miami | Florida
Helm Bank | Miami | Florida
Tropical Federal Credit Union | Miami | Florida
Eastern Financial Credit Union | Miramar | Florida
Pelican National Bank | Naples | Florida
Alliance Bank | Orlando | Florida
Bank at Ormond By-the-Sea | Ormond Beach | Florida
First Community Bank of Palm Beach County | Pahokee | Florida
Florida Bank of Commerce | Palm Harbor | Florida
Peoples First Community Bank | Panama City | Florida
Century Bank, F.S.B. | Sarasota | Florida
Highlands Independent Bank | Sebring | Florida
Raymond James Bank, FSB | St. Petersburg Beach | Florida
City First Bank | Tampa | Florida
Columbia Bank | Tampa | Florida
United Southern Bank | Umatilla | Florida
Marine Bank and Trust | Vero Beach | Florida
Federal Employees Credit Union | West Palm Beach | Florida
Wilcox County State Bank | Abbeville | Georgia
Bank of Adairsville | Adairsville | Georgia
Farmers and Merchants Bank | Adel | Georgia
Montgomery County Bank | Ailey | Georgia
AGE Federal Credit Union | Albany | Georgia
Chattahoochee National Bank | Alpharetta | Georgia
First Colony Bank | Alpharetta | Georgia
Citizens Trust Bank | Atlanta | Georgia
First Union National— Georgia | Atlanta | Georgia
First Union Direct Bank, N.A. | Augusta | Georgia
Union County Bank | Blairsville | Georgia
Peoples Bank of Fannin County | Blue Ridge | Georgia
First National Bank of Georgia | Buchanan | Georgia
Bank of Chickamauga | Chickamauga | Georgia
Peoples Community Bank of Colquitt | Colquitt | Georgia
The Peoples Bank | Eatonton | Georgia
Pinnacle Bank, N.A. | Elberton | Georgia
Gainesville Bank and Trust | Gainesville | Georgia
First Citizens Bank | Glennville | Georgia
South Georgia Bank, FSB | Glennville | Georgia
SunMark Community Bank | Hawkinsville | Georgia
Community Trust Bank | Hiram | Georgia
Wayne National Bank | Jesup | Georgia
Peoples Bank | Lithonia | Georgia
The Community Bank | Loganville | Georgia
Rivoli Bank & Trust | Macon | Georgia
The Westside Bank & Trust Company | Marietta | Georgia
First Security National Bank | Norcross | Georgia
Family Bank | Pelham | Georgia
Independent Bank and Trust | Powder Springs | Georgia
The Citizens National Bank of Quitman | Quitman | Georgia
Citizens First Bank | Rome | Georgia
Farmers and Merchants Community Bank | Senoia | Georgia
Quantum National Bank | Suwanee | Georgia
Bank of Thomas County | Thomasville | Georgia
First Bank of Georgia | Thomson | Georgia
Citizens Bank and Trust | Trenton | Georgia
Community Bank of Georgia | Tucker | Georgia
Farmers and Merchants Bank | Washington | Georgia
First Piedmont Bank | Winder | Georgia
Back and Middle River FS&LA | Baltimore | Maryland
Bay-Vanguard Federal Savings Bank | Baltimore | Maryland
Hull Federal Savings Bank | Baltimore | Maryland
Ideal Federal Savings Bank | Baltimore | Maryland
Northfield Federal Savings | Baltimore | Maryland
Vigilant Federal Savings & Loan Association | Baltimore | Maryland
F&M Bank—Allegiance | Bethesda | Maryland
TMB Federal Credit Union | Cabin John | Maryland
Cecil Federal Savings Bank | Elkton | Maryland
County National Bank | Glen Burnie | Maryland
Eastern Savings Bank, FSB | Hunt Valley | Maryland
State Employees' Credit Union | Linthicum | Maryland
Susquehanna Bank | Lititz | Maryland
IR Federal Credit Union | Riverdale | Maryland
GrandBank | Rockville | Maryland
Provident Bank of Maryland | Towson | Maryland
Randolph Bank and Trust Company | Asheboro | North Carolina
First Commerce Bank | Charlotte | North Carolina
Rowan Savings Bank, SSB | China Grove | North Carolina
Cabarrus Bank of North Carolina | Concord | North Carolina
Mechanics & Farmers Bank | Durham | North Carolina
Central Carolina Bank and Trust Company | Durham | North Carolina
Gateway Bank and Trust Company | Elizabeth City | North Carolina
Macon Savings Bank, Inc., SSB | Franklin | North Carolina
First Gaston Bank of North Carolina | Gastonia | North Carolina
Carolina Bank | Greensboro | North Carolina
MountainBank | Hendersonville | North Carolina
Hertford Savings Bank, SSB | Hertford | North Carolina
Independence Bank | Kernersville | North Carolina
The Little Bank | Kinston | North Carolina
Bank of the Carolinas | Landis | North Carolina
Industrial Federal Savings Bank | Lexington | North Carolina
Lexington State Bank | Lexington | North Carolina
Liberty Savings and Loan Association | Liberty | North Carolina
First Savings and Loan Association | Mebane | North Carolina
American Community Bank | Monroe | North Carolina
Mount Gilead Savings and Loan Association | Mount Gilead | North Carolina
State Employees' Credit Union | Raleigh | North Carolina
Citizens Bank, Inc. | Salisbury | North Carolina
Taylorsville Savings Bank, SSB | Taylorsville | North Carolina
Anson Bank & Trust Company | Wadesboro | North Carolina
Waccamaw Bank | Whiteville | North Carolina
Cooperative Bank for Savings, Inc., SSB | Wilmington | North Carolina
Wachovia Bank, N.A. | Winston-Salem | North Carolina
People's Community Bank of South Carolina | Aiken | South Carolina
Home Federal Savings & Loan Association | Bamberg | South Carolina
Florence National Bank | Florence | South Carolina
Bank of Greeleyville | Greeleyville | South Carolina
The County Bank | Greenwood | South Carolina
Greer State Bank | Greer | South Carolina
First National Bank of South Carolina | Holly Hill | South Carolina
Kingstree Federal Savings & Loan Association | Kingstree | South Carolina
The Bank of Clarendon | Manning | South Carolina
Southcoast Community Bank | Mt. Pleasant | South Carolina
Anderson Brothers Bank | Mullins | South Carolina
Pickens Savings & Loan Association | Pickens | South Carolina
GrandSouth Bank | Simpsonville | South Carolina
Bank of Travelers Rest | Travelers Rest | South Carolina
Napus Federal Credit Union | Alexandria | Virginia
The Blue Grass Valley Bank | Blue Grass | Virginia
The Bank of Southside Virginia | Carson | Virginia
Second Bank and Trust Company | Culpeper | Virginia
F&M Bank-Emporia | Emporia | Virginia
Apple Federal Credit Union | Fairfax | Virginia
Farmers and Merchants Bank | Harrisonburg | Virginia
First Colonial Bank, F.S.B. | Hopewell | Virginia
Imperial Savings and Loan Association | Martinsville | Virginia
Navy Federal Credit Union | Merrifield | Virginia
Bank of the Commonwealth | Norfolk | Virginia
Lee Bank and Trust Company | Pennington Gap | Virginia
James River Bank | Waverly | Virginia
The Marathon Bank | Winchester | Virginia
Federal Home Loan Bank of Cincinnati—District 5
Farmers Bank and Trust Company | Bardstown | Kentucky
Wilson and Muir Bank and Trust Company | Bardstown | Kentucky
Bank of Cadiz and Trust Company | Cadiz | Kentucky
Bank of Columbia | Columbia | Kentucky
First Federal Savings Bank | Cynthiana | Kentucky
Harrison Deposit Bank and Trust Company | Cynthiana | Kentucky
Kentucky National Bank | Elizabethtown | Kentucky
Fulton Bank | Fulton | Kentucky
Farmers Bank | Hardinsburg | Kentucky
Hancock Bank and Trust Company | Hawesville | Kentucky
Peoples Bank and Trust Company | Hazard | Kentucky
Hopkinsville Federal Savings Bank | Hopkinsville | Kentucky
Planters Bank, Inc. | Hopkinsville | Kentucky
Bank of Jamestown | Jamestown | Kentucky
THE BANK—Oldham County | LaGrange | Kentucky
Leitchfield Deposit Bank & Trust Company | Leitchfield | Kentucky
L&N Federal Credit Union | Louisville | Kentucky
River City Bank | Louisville | Kentucky
Farmers Bank & Trust Company | Marion | Kentucky
United Community Bank | Marrowbone | Kentucky
Exchange Bank | Mayfield | Kentucky
Monticello Banking Company | Monticello | Kentucky
Pioneer Bank | Munfordville | Kentucky
South Central Bank of Daviess County | Owensboro | Kentucky
Salt Lick Deposit Bank | Owingsville | Kentucky
Blue Grass Federal Savings & Loan Association | Paris | Kentucky
First Commonwealth Bank | Prestonburg | Kentucky
Fort Knox National Bank | Radcliff | Kentucky
Commerce Exchange Bank | Beachwood | Ohio
Belpre Savings Bank | Belpre | Ohio
The First Bremen Bank | Bremen | Ohio
Farmers Citizens Bank | Bucyrus | Ohio
Cambridge Savings Bank | Cambridge | Ohio
Eagle Savings Bank | Cincinnati | Ohio
Findlay Savings Bank | Cincinnati | Ohio
Mercantile Savings Bank | Cincinnati | Ohio
Union Savings Bank | Cincinnati | Ohio
Westwood Homestead Savings Bank | Cincinnati | Ohio
Winton Savings and Loan Company | Cincinnati | Ohio
First Community Bank | Columbus | Ohio
Conneaut Savings & Loan Company | Conneaut | Ohio
Commercial Bank | Delphos | Ohio
Fort Jennings State Bank | Fort Jennings | Ohio
The Hamler State Bank | Hamler | Ohio
Morgan Bank, N.A. | Hudson | Ohio
Lincoln Savings and Loan Association | Ironton | Ohio
Peoples Community Bank | Lebanon | Ohio
Lower Salem Commercial Bank | Lower Salem | Ohio
Marietta Savings Bank | Marietta | Ohio
The Fahey banking Company | Marion | Ohio
Citizens National Bank of McConnelsville | McConnelsville | Ohio
Great Lakes Bank | Mentor | Ohio
American Savings and Loan Association | Middletown | Ohio
First National Bank of New Holland | New Holland | Ohio
Farmers State Bank | New Washington | Ohio
First National Bank | Orrville | Ohio
The Republic Banking Company | Republic | Ohio
Chippewa Valley Bank | Rittman | Ohio
Mutual Federal Savings Bank | Sidney | Ohio
Security National Bank & Trust Company | Springfield | Ohio
Central Federal Savings and Loan Association | Wellsville | Ohio
Peoples Savings and Loan Company | West Liberty | Ohio
The Union Banking Company | West Mansfield | Ohio
Farmers State Bank | West Salem | Ohio
Wilmington Savings Bank | Wilmington | Ohio
Brighton Bank | Brighton | Tennessee
Cumberland Bank | Carthage | Tennessee
Highland Federal Savings and Loan Association | Crossville | Tennessee
Security Federal Savings Bank | Elizabethton | Tennessee
Lauderdale County Bank | Halls | Tennessee
Carroll Bank and Trust | Huntingdon | Tennessee
First National Bank of Manchester | Manchester | Tennessee
The Coffee County Bank | Manchester | Tennessee
The Home Bank of Tennessee | Maryville | Tennessee
Memphis Area Teachers' Credit Union | Memphis | Tennessee
The Bank of Moscow | Moscow | Tennessee
Johnson County Bank | Mountain City | Tennessee
Bank of Murfreesboro | Murfreesboro | Tennessee
Home Banking Company | Selmer | Tennessee
Federal Home Loan Bank of Indianapolis—District 6
FCN Bank, NA | Brookville | Indiana
Assurance Partners Bank | Carmel | Indiana
Montgomery SA, FA | Crawfordsville | Indiana
Decatur Bank and Trust Company | Decatur | Indiana
United Fidelity Bank | Evansville | Indiana
Springs Valley Bank and Trust Company | French Lick | Indiana
First Federal Savings Bank | Huntington | Indiana
Campbell and Fetter Bank | Kendallville | Indiana
United Community Bank | Lawrenceburg | Indiana
River Valley Financial Bank | Madison | Indiana
Fidelity Federal Savings Bank | Marion | Indiana
State Bank of Markle | Markle | Indiana
First State Bank of Middlebury | Middlebury | Indiana
Citizens Financial Services, FSB | Munster | Indiana
Community Bank of Southern Indiana | New Albany | Indiana
Regional Federal Savings Bank | New Albany | Indiana
Ameriana Bank of Indiana, FSB | New Castle | Indiana
AmericanTrust FSB | Peru | Indiana
Spencer County Bank | Santa Claus | Indiana
Jackson County Bank | Seymour | Indiana
Shelby County Bank | Shelbyville | Indiana
Sobieski FS & LA of South Bend | South Bend | Indiana
Security Federal Bank, F.S.B. | St. John | Indiana
Terre Haute Savings Bank | Terre Haute | Indiana
Frances Slocum Bank and Trust Company | Wabash | Indiana
Ann Arbor Commerce Bank | Ann Arbor | Michigan
Charlevoix State Bank | Charlevoix | Michigan
Dearborn Federal Savings Bank | Dearborn | Michigan
Financial Health Credit Union | East Lansing | Michigan
Michigan National Bank | Farmington Hills | Michigan
Bank West, FSB | Grand Rapids | Michigan
Firstbank-Lakeview | Lakeview | Michigan
State Employees Credit Union | Lansing | Michigan
Independent Bank-South Michigan | Leslie | Michigan
State Savings Bank | Manistique | Michigan
Mason State Bank | Mason | Michigan
Community Federal Credit Union | Plymouth | Michigan
Team One Credit Union | Saginaw | Michigan
Sidney State Bank | Sidney | Michigan
Flagstar Bank | Troy | Michigan
Research Federal Credit Union | Warren | Michigan
First Bank | West Branch | Michigan
Federal Home Loan Bank of Chicago—District 7
Oxford Bank and Trust | Addison | Illinois
Heartland Bank and Trust Company | Bloomington | Illinois
Peoples Bank of Kankakee County | Bourbonnais | Illinois
Bridgeview Bank and Trust Company | Bridgeview | Illinois
Southe Pointe Bank | Carbondale | Illinois
First American Bank | Carpentersville | Illinois
United Community Bank | Chatham | Illinois
Amalgamated Bank of Chicago | Chicago | Illinois
Austin Bank of Chicago | Chicago | Illinois
Builders Bank | Chicago | Illinois
Burling Bank | Chicago | Illinois
Community Bank of Lawndale | Chicago | Illinois
First Savings Bank of Hegewisch | Chicago | Illinois
The Foster Bank | Chicago | Illinois
State Bank of Countryside | Countryside | Illinois
First Savings Bank | Danville | Illinois
Clover Leaf Bank, SB | Edwardsville | Illinois
Effingham State Bank | Effingham | Illinois
Illinois Community Bank | Effingham | Illinois
Washington Savings Bank | Effingham | Illinois
Elgin Financial Savings Bank | Elgin | Illinois
Forest Park National Bank & Trust Company | Forest Park | Illinois
Harris Bank Frankfort | Frankfort | Illinois
Union Savings Bank | Freeport | Illinois
Central Trust & Savings Bank | Geneseo | Illinois
Bank of Gibson City | Gibson City | Illinois
Northside Community Bank | Gurnee | Illinois
UnionBank/Northwest | Hanover | Illinois
Parkway Bank and Trust Co. | Harwood Heights | Illinois
North Central Bank | Hennepin | Illinois
State Bank Herscher | Herscher | Illinois
First State Bank of Heyworth | Heyworth | Illinois
Bank of Homewood, National Association | Homewood | Illinois
The Farmers State Bank and Trust Company | Jacksonville | Illinois
First FS&LA of Kewanee | Kewanee | Illinois
State Bank of Latham | Latham | Illinois
Logan County Bank | Lincoln | Illinois
Twin Oaks Savings Bank | Marseilles | Illinois
Citizens Community Bank | Mascoutah | Illinois
Okaw Building and Loan, s.b. | Mattoon | Illinois
Middletown State Bank | Middleton | Illinois
Blackhawk State Bank | Milan | Illinois
Parish Bank and Trust Company | Momence | Illinois
First State Bank of Monticello | Monticello | Illinois
Bankplus, FSB | Morton | Illinois
First National Bank of Morton Grove | Morton Grove | Illinois
George Washington Savings Bank | Oak Lawn | Illinois
The First National Bank of Ogden | Ogden | Illinois
The First National Bank of Okawville | Okawville | Illinois
First National Bank in Onley | Olney | Illinois
Bank of Palmyra | Palmyra | Illinois
The Edgar County Bank & Trust Company | Paris | Illinois
First FS&LA of Pekin | Pekin | Illinois
First National Bank in Pickneyville | Pinckneyville | Illinois
Mercantile Trust and Savings Bank | Quincy | Illinois
State Street Bank and Trust Company | Quincy | Illinois
North County Savings Bank | Red Bud | Illinois
First Crawford State Bank | Robinson | Illinois
American Bank and Trust Company | Rock Island | Illinois
First Savanna Savings Bank | Savanna | Illinois
First State Bank of Shannon-Polo | Shannon | Illinois
First S&LA of South Holland | South Holland | Illinois
Security Bank, s.b. | Springfield | Illinois
Stillman BancCorp, NA | Stillman Valley | Illinois
Argo Federal Savings Bank, F.S.B. | Summit | Illinois
The National B&T Company of Sycamore | Sycamore | Illinois
Villa Park Trust and Savings Bank | Villa Park | Illinois
Citizens First State Bank of Walnut | Walnut | Illinois
Hill-Dodge Banking Company | Warsaw | Illinois
Alpha Community Bank | Washburn | Illinois
State Bank of Waterloo | Waterloo | Illinois
Cardunal Savings Bank, FSB | West Dundee | Illinois
Metrobank, N.A. | Davenport | Iowa
First American Credit Union | Beloit | Wisconsin
Jackson County Bank | Black River Falls | Wisconsin
State Bank of Cross Plains | Cross Plains | Wisconsin
State Financial Bank | Hales Corner | Wisconsin
AM Community Credit Union | Kenosha | Wisconsin
Time Federal Savings Bank | Medford | Wisconsin
M&I Marshall & Isley Bank | Milwaukee | Wisconsin
Community Bank Spring Green and Plain | Spring Green | Wisconsin
Tomahawk Community Bank, S.S.B. | Tomahawk | Wisconsin
Marine Bank | Wauwatosa | Wisconsin
Ledger Bank, S.S.B. | West Allis | Wisconsin
Federal Home Loan Bank of Des Moines—District 8
Security State Bank | Anamosa | Iowa
State Savings Bank | Baxter | Iowa
Farmers Trust & Savings Bank | Buffalo Center | Iowa
Linn Area Credit Union | Cedar Rapids | Iowa
United Security Savings Bank, F.S.B. | Cedar Rapids | Iowa
Citizens State Bank | Clarinda | Iowa
Clear Lake Bank & Trust Company | Clear Lake | Iowa
Gateway State Bank | Clinton | Iowa
Cresco Union Savings Bank | Cresco | Iowa
Denver Savings Bank | Denver | Iowa
DeWitt Bank and Trust Company | DeWitt | Iowa
Premier Bank | Dubuque | Iowa
Liberty Trust & Savings Bank | Durant | Iowa
Farmers Trust & Savings Bank | Earling | Iowa
Hardin County Savings Bank | Eldora | Iowa
Peoples State Bank | Elkader | Iowa
NorthStar Bank | Estherville | Iowa
Fort Madison Bank & Trust Company | Fort Madison | Iowa
Security Savings Bank | Gowrie | Iowa
Peoples Trust and Savings Bank | Grand Junction | Iowa
Midstates Bank, N.A. | Harlan | Iowa
Hills Bank and Trust Company | Hills | Iowa
First State Bank | Huxley | Iowa
First State Bank | Ida Grove | Iowa
Peoples Savings Bank | Indianola | Iowa
Iowa Falls State Bank | Iowa Falls | Iowa
Kerndt Brothers Savings Bank | Lansing | Iowa
Citizens Bank | Leon | Iowa
Libertyville Savings Bank | Libertyville | Iowa
First State Bank | Lynnville | Iowa
First National Bank of Manning | Manning | Iowa
Valley Bank & Trust | Mapleton | Iowa
Maquoketa State Bank | Maquoketa | Iowa
Maynard Savings Bank | Maynard | Iowa
Southeast Security Bank | Mediapolis | Iowa
Union State Bank | Monona | Iowa
Citizens State Bank | Monticello | Iowa
Mount Vernon Bank and Trust Company | Mount Vernon | Iowa
Wayland State Bank | Mt. Pleasant | Iowa
Community Bank of Muscatine | Muscatine | Iowa
Iowa State Bank | Oelwein | Iowa
Iowa State Bank | Orange City | Iowa
Iowa Trust and Savings Bank | Oskaloosa | Iowa
Horizon Federal Savings Bank | Oskaloosa | Iowa
Pella State Bank | Pella | Iowa
Citizens State Bank | Postville | Iowa
First State Bank | Riceville | Iowa
Peoples Bank | Rock Valley | Iowa
Union State Bank | Rockwell City | Iowa
Rolfe State Bank | Rolfe | Iowa
Security State Bank | Sheldon | Iowa
Fremont County Savings Bank | Sidney | Iowa
St. Ansgar State Bank | St. Ansgar | Iowa
Bank Plus | Swea City | Iowa
Victor State Bank | Victor | Iowa
Washington State Bank | Washington | Iowa
Iowa State Bank | West Bend | Iowa
GuideOne Life Insurance Company | West Des Moines | Iowa
GuideOne Mutual Insurance Company | West Des Moines | Iowa
GuideOne Specialty Mutual Insurance Company | West Des Moines | Iowa
Wilton Savings Bank | Wilton | Iowa
Sterling State Bank | Austin | Minnesota
White Rock Bank | Cannon Falls | Minnesota
Currie State Bank | Currie | Minnesota
State Bank of Delano | Delano | Minnesota
Inter Savings Bank, fsb | Edina | Minnesota
Stearns Bank of Evansville | Evansville | Minnesota
1st United Bank | Faribault | Minnesota
Border State Bank of Greenbush | Greenbush | Minnesota
Citizens State Bank of Hayfield | Hayfield | Minnesota
Farmers State Bank of Hoffman | Hoffman | Minnesota
Fortress Bank, N.A. | Houston | Minnesota
Security State Bank of Howard Lake | Howard Lake | Minnesota
Key Community Bank | Inver Grove Heights | Minnesota
Lake City Federal Savings & Loan Association | Lake City | Minnesota
Lake Area Bank | Lindstrom | Minnesota
Voyager Bank | Mankato | Minnesota
Wells Fargo Bank Minnesota, N.A. | Minneapolis | Minnesota
Bayside Bank | Minnetonka | Minnesota
First National Bank of Moose Lake | Moose Lake | Minnesota
United Prairie Bank | Mountain Lake | Minnesota
The American Bank of Nashwauk | Nashwauk | Minnesota
State Bank of New Prague | New Prague | Minnesota
ProGrowth Bank | Nicollet | Minnesota
Midwest Bank, N.A. | Parkers Prairie | Minnesota
The First National Bank of Pine City | Pine City | Minnesota
Premier Bank Rochester | Rochester | Minnesota
Citizens Bank of Roseau | Roseau | Minnesota
St. James Federal Savings & Loan Association | St. James | Minnesota
Liberty State Bank | St. Paul | Minnesota
The Nicollet County Bank of St. Peter | St. Peter | Minnesota
Farmers State Bank of Trimont | Trimont | Minnesota
Roundbank | Waseca | Minnesota
Community Bank Winsted | Winsted | Minnesota
First Independent Bank of Wood Lake | Wood Lake | Minnesota
Citizens Bank | Amsterdam | Missouri
Bank of Jacomo | Blue Springs | Missouri
Boonslick Bank | Boonville | Missouri
Community State Bank of Bowling Green | Bowling Green | Missouri
Pony Express Bank | Braymer | Missouri
Mississippi County Savings & Loan Association | Charleston | Missouri
Clayco State Bank | Claycomo | Missouri
Citizens Union State Bank and Trust | Clinton | Missouri
First National Bank and Trust Company | Columbia | Missouri
Meramec Valley Bank | Ellisville | Missouri
New Era Bank | Fredericktown | Missouri
Bank Star One | Fulton | Missouri
American Loan and Savings Association | Hannibal | Missouri
Central Trust Bank | Jefferson City | Missouri
Lafayette County Bank of Lexington/Wellington | Lexington | Missouri
Macon-Atlanta State Bank | Macon | Missouri
Regional Missouri Bank | Marceline | Missouri
Nodaway Valley Bank | Maryville | Missouri
Independent Farmers Bank | Maysville | Missouri
Heritage State Bank | Nevada | Missouri
Southwest Community Bank | Ozark | Missouri
Palmyra Saving & Building Association, F.A. | Palmyra | Missouri
Palmyra State Bank | Palmyra | Missouri
Farley State Bank | Parkville | Missouri
Perry County Savings Bank, FSB | Perryville | Missouri
Citizens Community Bank | Pilot Grove | Missouri
Farmers Bank of Portageville | Portageville | Missouri
Pulaski Bank, a Federal Savings Bank | Saint Louis | Missouri
Bank of Salem | Salem | Missouri
The Merchants and Farmers Bank of Salisbury | Salisbury | Missouri
Community Bank of Pettis County | Sedalia | Missouri
Liberty Bank | Springfield | Missouri
Empire Bank | Springfield | Missouri
Signature Bank | Springfield | Missouri
Bank Star of the BootHeel | Steele | Missouri
The Tipton Latham Bank, N.A. | Tipton | Missouri
Bank of Washington | Washington | Missouri
West Plains Savings and Loan Association | West Plains | Missouri
First and Farmers Bank | Portland | North Dakota
First International Bank & Trust | Watford City | North Dakota
Wells Fargo Bank South Dakota, N.A. | Sioux Falls | South Dakota
Federal Home Loan Bank of Dallas—District 9
Farmers Bank and Trust Company | Clarksville | Arkansas
First Arkansas Valley Bank | Dardanelle | Arkansas
Bank of Eureka Springs | Eureka Springs | Arkansas
McIlroy Bank and Trust | Fayetteville | Arkansas
First National Bank of Fort Smith | Fort Smith | Arkansas
Bank of the Ozarks, nwa | Jasper | Arkansas
Bank of Lake Village | Lake Village | Arkansas
First State Bank | Lonoke | Arkansas
Union Bank of Mena | Mena | Arkansas
First Bank of Montgomery County | Mount Ida | Arkansas
First State Bank | Parkin | Arkansas
Bank of Salem | Salem | Arkansas
First Security Bank | Searcy | Arkansas
Simmons First Bank | Searcy | Arkansas
Springdale Bank and Trust | Springdale | Arkansas
Bank of Yellville | Yellville | Arkansas
Fidelity Bank and Trust Company | Baton Rouge | Louisiana
First National Bank | Gonzales | Louisiana
Schwegmann Bank and Trust Company | Harvey | Louisiana
Washington Life Insurance Company | Lafayette | Louisiana
Globe Homestead Federal Savings Association | Metairie | Louisiana
State-Investors Savings and Loan, FSA | Metairie | Louisiana
Home FS&LA of Shreveport | Shreveport | Louisiana
Citizens Bank and Trust Company of Vivian | Vivian | Louisiana
Cleveland Community Bank, s.s.b. | Cleveland | Mississippi
First Federal Bank for Savings | Columbia | Mississippi
SOUTHBank, a FSB | Corinth | Mississippi
Quitman County Federal Credit Union | Marks | Mississippi
Community First National Bank | Las Cruces | New Mexico
Pioneer Savings Bank | Roswell | New Mexico
First National Bank of Santa Fe | Santa Fe | New Mexico
Liberty Bank, SSB | Austin | Texas
International Bank of Commerce—Brownsville | Brownsville | Texas
First American Bank Texas, S.S.B. | Bryan | Texas
American Bank, N.A. | Corpus Christi | Texas
Pacific Southwest Bank | Corpus Christi | Texas
Bank of the Southwest | Dallas | Texas
Bluebonnet Savings Bank, FSB | Dallas | Texas
Guaranty Federal Bank, F.S.B. | Dallas | Texas
State Bank and Trust Company, Dallas | Dallas | Texas
Del Rio Bank & Trust Company | Del Rio | Texas
Western Bank and Trust | Duncanville | Texas
Mid-Coast Savings Bank, S.S.B. | Edna | Texas
Bank of the West | El Paso | Texas
Houston Savings Bank, fsb | Houston | Texas
New Era Life Insurance Company | Houston | Texas
OmniBank, N.A. | Houston | Texas
Southwest Bank of Texas, N.A. | Houston | Texas
First National Bank of Hughes Springs | Hughes Springs | Texas
Bayshore National Bank of La Porte | La Porte | Texas
International Bank of Commerce | Laredo | Texas
First State Bank of Moulton | Moulton | Texas
Liberty Bank | North Richland Hills | Texas
Crockett County National Bank | Ozona | Texas
Interstate Bank, ssb | Perryton | Texas
Cypress Bank, FSB | Pittsburg | Texas
Community Credit Union | Plano | Texas
First National Bank in Quanah | Quanah | Texas
Benchmark Bank | Quinlan | Texas
Peoples State Bank | Rocksprings | Texas
Texas State Bank | San Angelo | Texas
Frost National Bank | San Antonio | Texas
State Bank & Trust of Seguin, Texas | Seguin | Texas
Cedar Creek Bank | Seven Points | Texas
Citizens Bank of Lubbock County | Slaton | Texas
Texas National Bank | Tomball | Texas
Southside Bank | Tyler | Texas
First Victoria National Bank | Victoria | Texas
Texas Bank | Weatherford | Texas
International Bank of Commerce | Zapata | Texas
Federal Home Loan Bank of Topeka—District 10
Gateway Credit Union | Aurora | Colorado
FirstBank of Avon | Avon | Colorado
Canon National Bank | Canon City | Colorado
Ent Federal Credit Union | Colorado Springs | Colorado
First State Bank, Colorado Springs | Colorado Springs | Colorado
Citizens State Bank of Cortez | Cortez | Colorado
Guaranty Bank and Trust Company | Denver | Colorado
Peoples Bank of Leadville | Leadville | Colorado
The State Bank | Rocky Ford | Colorado
FirstBank of Vail | Vail | Colorado
Community State Bank | Coffeyville | Kansas
First National Bank of Conway Springs | Conway Springs | Kansas
City State Bank | Fort Scott | Kansas
Liberty Savings Association, FSA | Fort Scott | Kansas
First FS&LA of Independence | Independence | Kansas
First National Bank | Independence | Kansas
MidAmerican Bank & Trust Company, N.A. | Leavenworth | Kansas
Kansas State Bank of Manhattan | Manhattan | Kansas
Stockgrowers State Bank | Maple Hill | Kansas
The Citizens State Bank | Marysville | Kansas
The First National Bank | Medicine Lodge | Kansas
Montezuma State Bank | Montezuma | Kansas
Kansas State Bank | Overbrook | Kansas
First National Bank in Pratt | Pratt | Kansas
Rose Hill Bank | Rose Hill | Kansas
Bennington State Bank | Salina | Kansas
First National Bank of Scott City | Scott City | Kansas
Security State Bank | Scott City | Kansas
Centera Bank | Sublette | Kansas
Sylvan State Bank | Sylvan Grove | Kansas
First Federal Savings & Loan | WaKeeney | Kansas
First National Bank of Wamego | Wamego | Kansas
Kaw Valley State Bank and Trust Company | Wamego | Kansas
Fidelity Bank | Wichita | Kansas
Columbus Federal Savings Bank | Columbus | Nebraska
First National Bank of Fullerton | Fullerton | Nebraska
Geneva State Bank | Geneva | Nebraska
Equitable Building and Loan Association, FSB | Grand Island | Nebraska
Home FS&LA of Grand Island | Grand Island | Nebraska
Harvard State Bank | Harvard | Nebraska
Hershey State Bank | Hershey | Nebraska
Nebraska National Bank | Kearney | Nebraska
Platte Valley State Bank and Trust | Kearney | Nebraska
Bank of Keystone | Keystone | Nebraska
Home FS&LA of Nebraska | Lexington | Nebraska
Lincoln Federal Savings Bank of Nebraska | Lincoln | Nebraska
Security Federal Savings | Lincoln | Nebraska
Sherman County Bank | Loup City | Nebraska
First National Bank Northeast | Lyons | Nebraska
Bank of Madison | Madison | Nebraska
Madison County Bank | Madison | Nebraska
Bank of Norfolk | Norfolk | Nebraska
First National Bank | North Platte | Nebraska
Nebraskaland National Bank | North Platte | Nebraska
Marquette Bank Nebraska | O'Neil | Nebraska
First American Savings Bank, FSB | Omaha | Nebraska
Pender State Bank | Pender | Nebraska
Midwest Bank | Pierce | Nebraska
Ravenna Bank | Ravenna | Nebraska
Sidney Federal Savings and Loan Association | Sidney | Nebraska
Dakota County State Bank | South Sioux City | Nebraska
Springfield State Bank | Springfield | Nebraska
Bank of St. Edward | St. Edward | Nebraska
Tecumseh Building and Loan Association | Tecumseh | Nebraska
The First National Bank of Utica | Utica | Nebraska
Farmers State Bank | Wallace | Nebraska
Saline State Bank | Wilber | Nebraska
Citizens National Bank of Wisner | Wisner | Nebraska
66 Federal Credit Union | Bartlesville | Oklahoma
Bank of Cordell | Cordell | Oklahoma
Bank of Hydro | Hydro | Oklahoma
Citizens State Bank | Okemah | Oklahoma
First Enterprise Bank | Oklahoma City | Oklahoma
Union Bank and Trust Company | Oklahoma City | Oklahoma
Will Rogers Bank | Oklahoma City | Oklahoma
First National Bank of Texhoma | Texhoma | Oklahoma
Community Bank and Trust Company | Tulsa | Oklahoma
Energy One Federal Credit Union | Tulsa | Oklahoma
Grand Lake Bank | Tulsa | Oklahoma
Armstrong Bank | Vian | Oklahoma
First Bank and Trust | Wagoner | Oklahoma
Weleetka State Bank | Weleetka | Oklahoma
Canadian State Bank | Yukon | Oklahoma
Federal Home Loan Bank of San Francisco—District 11
Fremont Investment and Loan | Anaheim | California
Vista Federal Credit Union | Burbank | California
First Bank and Trust | Huntington Beach | California
La Jolla Bank, F.S.B. | La Jolla | California
Eastern International Bank | Los Angeles | California
Wescom Credit Union | Pasadena | California
San Diego County Credit Union | San Diego | California
California Bank and Trust | San Francisco | California
Chevron Federal Credit Union | San Francisco | California
Patelco Credit Union | San Francisco | California
United Commercial Bank | San Francisco | California
Bank USA, FSB | Santa Cruz | California
Luther Burbank Savings & Loan Association | Santa Rosa | California
Tracy Federal Bank, F.S.B. | Tracy | California
Yolo Community Bank | Woodland | California
Redding Bank of Commerce | Yuba City | California
Federal Home Loan Bank of Seattle—District 12
National Bank of Alaska | Anchorage | Alaska
First Bank | Ketchikan | Alaska
First Savings & Loan Association of America | Dededo | Guam
Central Pacific Bank | Honolulu | Hawaii
Territorial Savings and Loan Association | Honolulu | Hawaii
Farmers and Merchants State Bank | Boise | Idaho
D.L. Evans Bank | Burley | Idaho
Home FS&LA of Nampa, Idaho | Nampa | Idaho
Valley Bank of Helena | Kalispell | Montana
American Bank of Montana | Livington | Montana
Liberty Federal Bank, A S.B. | Eugene | Oregon
Centennial Bank | Eugene | Oregon
Wood Products Credit Union | Eugene | Oregon
Chetco Federal Credit Union | Harbor | Oregon
Premier West Bank | Medford | Oregon
Pioneer Trust Bank, N.A. | Salem | Oregon
West Coast Bank | Salem | Oregon
Draper Bank and Trust | Draper | Utah
McKay Dee Hospital Credit Union | Ogden | Utah
American Investment Bank, N.A. | Salt Lake City | Utah
Mountain America Credit Union | Salt Lake City | Utah
Zions First National Bank | Salt Lake City | Utah
Heritage Bank | St. George | Utah
Kitsap Community Federal Credit Union | Bremerton | Washington
State Bank of Concrete | Concrete | Washington
Washington State Bank NA | Federal Way | Washington
Issaquah Bank | Issaquah | Washington
First Community Bank of Washington | Lacey | Washington
Spokane Teachers Credit Union | Liberty Lake | Washington
Cowlitz Bank | Longview | Washington
Pacific Northwest Bank | Seattle | Washington
United Savings and Loan Bank | Seattle | Washington
Viking Community Bank | Seattle | Washington
The Wheatland Bank | Spokane | Washington
Sound Banking Company | Tacoma | Washington
TAPCO Credit Union | Tacoma | Washington
Banner Bank | Walla Walla | Washington
Equality State Bank | Cheyenne | Wyoming
Security First Bank | Cheyenne | Wyoming
Ranchester State Bank | Ranchester | Wyoming

II. Public Comments

To encourage the submission of public comments on the community support performance of Bank members, on or before April 30, 2001, each Bank will notify its Advisory Council and nonprofit housing developers, community groups, and other interested parties in its district of the members selected for community support review in the 2000-01 fifth quarter review cycle. 12 CFR 944.2(b)(2)(ii). In reviewing a member for community support compliance, the Finance Board will consider any public comments it has received concerning the member. 12 CFR 944.2(d). To ensure consideration by the Finance Board, comments concerning the community support performance of members selected for the 2000-01 fifth quarter review cycle must be delivered to the Finance Board on or before the May 25, 2001 deadline for submission of Community Support Statements.

By the Federal Housing Finance Board.
Dated: March 27, 2001.
James L. Bothwell,
Managing Director.

[FR Doc. 01-8042 Filed 4-13-01; 8:45 am]

BILLING CODE 6725-01-P